ENVIRONMENTAL PROTECTION AGENCY

40 CFR Part 71

[CA 098-NOA; FRL-7537-1]

Part 71 Federal Operating Permits Program for California Agricultural Sources, Announcement of a New Deadline for Application Submittal

AGENCY: Environmental Protection Agency (EPA).

ACTION: Final rule; delay of application deadline.

SUMMARY: In connection with EPA's implementation of a part 71 program for state-exempt major stationary agricultural sources in California, EPA is announcing a new deadline of November 13, 2003 instead of August 1, 2003 for submittal of part 71 operating permit applications for all state-exempt stationary agricultural sources except those that are major due solely to emissions from diesel-powered engines.

DATES: This action is effective August 1, 2003.

FOR FURTHER INFORMATION CONTACT: If you have any questions on this notice contact Gerardo Rios, EPA Region 9, Air Division, Permits Office (AIR-3), at (415) 972-3974 or rios.gerardo@epa.gov.

SUPPLEMENTARY INFORMATION: Throughout this document, “we,” “us” and “our” refer to EPA.

Background: On October 15, 2002 we partially withdrew approval of part 70 Operating Permit Programs in California and announced a part 71 Federal Operating Permits Program for major stationary agricultural sources in California (67 FR 63551). At that time we also announced in the preamble of the final rule the deadlines for submittal of part 71 operating permit applications for these sources, as defined in 40 CFR 71.2. These deadlines were May 14, 2003 for sources that were major due to diesel-powered engine emissions, and August 1, 2003 for any remaining state-exempt major stationary agriculture sources (See 67 FR 63560 in Section IV). Today we are announcing that the second deadline is changed to November 13, 2003.

Description of Today's Action

Pursuant to 40 CFR 71.5(a)(1)(i), major stationary sources that do not have an existing operating permit issued by a State (or local permitting authority) under an approved part 70 program, and that are applying for a part 71 permit for the first time, must submit an application within 12 months after becoming subject to the permit program or on or before such earlier date as the permitting authority may establish. Section 71.5(a)(1)(i) further provides that sources required to submit permit applications earlier than 12 months after becoming subject to part 71 shall be notified of the earlier submittal date at least 6 months in advance of the deadline. EPA previously met this requirement by publishing a Notice in the Federal Register on October 15, 2002. 67 FR 63551. That notice established a deadline of May 14, 2003 for state-exempt stationary agricultural sources that are major sources, as defined in 40 CFR 71.2, due to emissions from diesel-powered engines, and a deadline of August 1, 2003 for all remaining state-exempt major stationary agricultural sources. We are today notifying this second category of sources that the deadline to submit part 71 permit applications to the EPA Region IX Permits Office has been changed from August 1, 2003 to November 13, 2003.

Dated: July 21, 2003.
Alexis Strauss,
Acting Regional Administrator, Region IX.

[FR Doc. 03-19282 Filed 7-31-03; 8:45 am]

BILLING CODE 6560-50-P